DEPARTMENT OF ENERGY

Federal Energy Regulatory Commission

Combined Notice of Filings #1

Take notice that the Commission received the following electric corporate filings:

Docket Numbers: EC21-38-000.

Applicants: Imperial Valley Solar 2, LLC.

Description: Imperial Valley Solar 2, LLC submits the Amendment to Application for Authorization Under Section 203 of the Federal Power Act and Request for Expedited Consideration.

Filed Date: 1/21/21.

Accession Number: 20210121-5195.

Comments Due: 5 p.m. ET 1/31/21.

Docket Numbers: EC21-46-000.

Applicants: Acorn I Energy Storage, LLC, PPA Grand Johanna LLC, Wildcat I Energy Storage, LLC.

Description: Application for Authorization Under Section 203 of the Federal Power Act of Acorn I Energy Storage, LLC, et. al.

Filed Date: 1/22/21.

Accession Number: 20210122-5224.

Comments Due: 5 p.m. ET 2/12/21.

Take notice that the Commission received the following exempt wholesale generator filings:

Docket Numbers: EG21-74-000.

Applicants: Silverstrand Grid, LLC.

Description: Notice of Self-Certification of EWG Status of Silverstrand Grid, LLC.

Filed Date: 1/22/21.

Accession Number: 20210122-5228.

Comments Due: 5 p.m. ET 2/12/21.

Docket Numbers: EG21-75-000.

Applicants: Ventura Energy Storage, LLC.

Description: Notice of Self-Certification as an Exempt Wholesale Generator Status of Ventura Energy Storage, LLC.

Filed Date: 1/21/21.

Accession Number: 20210121-5439.

Comments Due: 5 p.m. ET 2/11/21.

Take notice that the Commission received the following electric rate filings:

Docket Numbers: ER11-4443-003; ER11-3670-002; ER16-1689-002.

Applicants: AK Electric Supply LLC, ArcelorMittal Cleveland LLC, ArcelorMittal USA LLC.

Description: Notice of Change in Status of AK Electric Supply LLC, et al.

Filed Date: 1/21/21.

Accession Number: 20210121-5417.

Comments Due: 5 p.m. ET 2/11/21.

Docket Numbers: ER19-2858-004.

Applicants: East Coast Power Linden Holding, L.L.C.

Description: Compliance filing: Compliance to 401 to be effective 10/1/2019.

Filed Date: 1/25/21.

Accession Number: 20210125-5172.

Comments Due: 5 p.m. ET 2/16/21.

Docket Numbers: ER21-936-000.

Applicants: Whitetail Solar 2, LLC.

Description: Baseline eTariff Filing: Reactive Power Compensation Filing to be effective 1/26/2021.

Filed Date: 1/25/21.

Accession Number: 20210125-5091.

Comments Due: 5 p.m. ET 2/16/21.

Docket Numbers: ER21-937-000.

Applicants: Midcontinent Independent System Operator, Inc., Ameren Illinois Company.

Description: § 205(d) Rate Filing: 2021-01-25_SA 2880 Att A-Proj Spec No. 6 WVPA-EnerStar-Marshall to be effective 3/27/2021.

Filed Date: 1/25/21.

Accession Number: 20210125-5104.

Comments Due: 5 p.m. ET 2/16/21.

Docket Numbers: ER21-938-000.

Applicants: Florida Power & Light Company.

Description: § 205(d) Rate Filing: FPL and Seminole Rate Schedule No. 327 Revisions to Exhibit A to be effective 1/1/2021.

Filed Date: 1/25/21.

Accession Number: 20210125-5113.

Comments Due: 5 p.m. ET 2/16/21.

Docket Numbers: ER21-939-000.

Applicants: Covanta Fairfax, LLC.

Description: Tariff Cancellation: Notice of Cancellation to be effective 5/31/2015.

Filed Date: 1/25/21.

Accession Number: 20210125-5191.

Comments Due: 5 p.m. ET 2/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 25, 2021.
Nathaniel J. Davis, Sr.,
Deputy Secretary.

[FR Doc. 2021-01972 Filed 1-28-21; 8:45 am]

BILLING CODE 6717-01-P